CHEMICAL SAFETY AND HAZARD INVESTIGATION BOARD

40 CFR Part 1604

Accident Investigation Initiation Notice and Order To Preserve Evidence; Extension of Comment Period

AGENCY: Chemical Safety and Hazard Investigation Board.

ACTION: Proposed rule; extension of comment period.

SUMMARY: The Chemical Safety and Hazard Investigation Board (CSB) is extending the period for comment on the proposed rule entitled, “Accident Investigation Initiation Notice and Order to Preserve Evidence,” which was published in the Federal Register on January 4, 2006 (71 FR 309).

DATES: Written comments now must be received on or before March 6, 2006.

ADDRESSES: You may submit written comments concerning the proposed rule, by the following method:

• Mail / Express delivery service: Chemical Safety and Hazard Investigation Board, Office of General Counsel, Attn: Christopher Warner, 2175 K Street, NW., Suite 650, Washington, DC 20037.

FOR FURTHER INFORMATION CONTACT: Christopher Warner, 202-261-7600.

SUPPLEMENTARY INFORMATION: On January 4, 2006, the CSB published in the Federal Register (71 FR 309) a proposed rule that would establish the means by which the CSB will preserve accident scenes/sites, and the evidence within those sites. The proposed rule is centered around a procedure by which the CSB may issue a written “Notice of Accident Investigation Initiation and Order to Preserve Evidence.” The CSB is proposing this rule to address critical issues surrounding evidence preservation, so that CSB investigators have the fullest possible opportunity to determine the causes of chemical accidents to which they are deployed. The proposed rule provided for a 30-day comment period, to end on February 3, 2006.

After publication of the proposed rule, the CSB received requests for a 60-day extension of the comment period from three trade associations—the American Petroleum Institute, The Fertilizer Institute, and the Synthetic Organic Chemical Manufacturers Association. Another private sector firm, ORC Worldwide, requested a 30-day extension. The reasons cited in support of additional time for comments included a need to more thoroughly evaluate the proposed rule, a need to obtain and review relevant background materials, and a need for member companies to review and discuss the proposed rule. The CSB also received a request for a 60-day comment period extension from one government agency, the U.S. Occupational Safety and Health Administration, which cited the complexity of the issues presented by the proposed rule.

The CSB carefully reviewed these requests and considered the reasons for a comment period extension cited therein. The CSB also considered the importance of maintaining a timely rulemaking process, in light of the direct impact the proposed rule would have on the agency's core mission investigative activities. The CSB has thus determined that a 30-day extension of the comment period is reasonable and sufficient. Written comments on the proposed rule must now be received by March 6, 2006.

Dated: January 30, 2006.
Christopher W. Warner,
General Counsel.

[FR Doc. E6-1464 Filed 2-2-06; 8:45 am]

BILLING CODE 6350-01-P